DEPARTMENT OF ENERGY

Federal Energy Regulatory Commission

[Project No. 1121-135]

Pacific Gas & Electric Company; Notice of Intent To Prepare an Environmental Assessment

On September 9, 2022, as supplemented on October 2, 2023, and December 1, 2023, Pacific Gas & Electric Company (PG&E or licensee) filed an application for a non-capacity amendment for the Battle Creek Hydroelectric Project No. 1121. The project is located on the mainstem Battle Creek, and on the North Fork and South Fork Battle Creek in Shasta and Tehama counties, California. The project occupies federal lands administered by the U.S. Forest Service and the Bureau of Land Management.

PG&E is requesting that its license for the Battle Creek Hydroelectric Project be amended to support a new Phase 2 of the Battle Creek Salmon and Steelhead Restoration Project (Restoration Project). The Restoration Project is a collaborative effort to restore fish habitat on Battle Creek and some of its tributaries. The new Phase 2 amendment requires the removal of the South Diversion Dam, Soap Creek Feeder Diversion Dam, Lower Ripley Creek Feeder Diversion Dam, and Coleman Diversion Dam, but does not include the tailrace connector tunnel from South Powerhouse to Inskip Canal. A Notice of Application Accepted for Filing and Soliciting Comments, Motions to Intervene, and Protest was issued on October 3, 2022.

The original Phase 2 was evaluated in a 2005 Environmental Impact Statement; however, the new Phase 2 amendment request does not include the construction of one of the mitigation measures. This notice identifies Commission staff's intention to prepare an environmental assessment (EA) analyzing the recent changes to the proposed action. The planned schedule for the completion of the EA is April 7, 2025.¹ Revisions to the schedule may be made as appropriate. The EA will be issued and made available for review by all interested parties. All comments filed on the EA will be reviewed by staff and considered in the Commission's final decision on the proceeding.

¹ The unique identification number for documents relating to this environmental review is EAXX-019-20-000-1741169216.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Any questions regarding this notice may be directed to Rebecca Martin at 202-502-6012 or Rebecca.martin@ferc.gov.

(Authority: 42 U.S.C. 4321 et seq.)

Dated: March 6, 2025.
Debbie-Anne A. Reese,
Secretary.

[FR Doc. 2025-03925 Filed 3-13-25; 8:45 am]

BILLING CODE 6717-01-P